DEPARTMENT OF THE INTERIOR

Bureau of Land Management

[WY-100-05-1310-DB]

Notice of Meeting of the Pinedale Anticline Working Group's Socioeconomic Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Socioeconomic Task Group (subcommittee) will meet in Pinedale, Wyoming, for a business meeting. Task Group meetings are open to the public.

DATES: The PAWG Socioeconomic Task Group will meet May 26, 2005, June 28, 2005 and July 28, 2005. All meetings are from 10 a.m. until 2 p.m.

ADDRESSES: The May 26 and June 28 meetings of the PAWG Socioeconomic Task Group will be held in the Lovatt room of the Pinedale Library at 155 S. Tyler Ave., Pinedale, WY. The July 28 meeting will be held at the BLM Pinedale Field Office at 432 E. Mill St.

FOR FURTHER INFORMATION CONTACT: Roy Allen, BLM/Socioeconomic TG Liaison, Bureau of Land Management, Wyoming State Office, 5353 Yellowstone Rd., Cheyenne, WY, 82009 or P.O. Box 1828, Cheyenne, WY 82003; 307-775-6031.

SUPPLEMENTARY INFORMATION: The Pinedale Anticline Working Group (PAWG) was authorized and established with release of the Record of Decision (ROD) for the Pinedale Anticline Oil and Gas Exploration and Development Project on July 27, 2000. The PAWG's charter is to advise the BLM on development and implementation of monitoring plans and adaptive management decisions for the life of the Pinedale Anticline natural gas field. The PAWG subsequently established seven resource- or activity-specific Task Groups, including one for Socioeconomics.

The agenda for these meetings will include information gathering and discussion related to implementation and funding of the socioeconomic monitoring plan to assess impacts of development in the Pinedale Anticline gas field. At a minimum, public comments will be heard just prior to adjournment of the meeting.

Dated: April 19, 2005.
Priscilla E. Mecham,
Field Manager.

[FR Doc. 05-8590 Filed 4-28-05; 8:45 am]

BILLING CODE 4310-22-P